FEDERAL COMMUNICATIONS COMMISSION

Notice of Public Information Collection(s) Being Submitted for Review to the Office of Management and Budget

June 17, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before August 12, 2005. If you anticipate that you will be submitting PRA comments, but find it difficult to do so within the period of time allowed by this notice, you should advise the contact listed below as soon as possible.

ADDRESSES: Direct all Paperwork Reduction Act (PRA) comments to Leslie F. Smith, Federal Communications Commission, Room 1-A804, 445 12th Street, SW., DC 20554 or via the Internet to Leslie.Smith@fcc.gov. If you would like to obtain or view a copy of this new or revised information collection, you may do so by visiting the FCC PRA Web page at: http://www.fcc.gov/omd/pra.

FOR FURTHER INFORMATION CONTACT: For additional information or copies of the information collection(s), contact Leslie F. Smith at (202) 418-0217 or via the Internet at Leslie.Smith@fcc.gov.

SUPPLEMENTARY INFORMATION: OMB Control Number: 3060-0053.

Title: Application for Consent to Transfer Control of Corporation Holding Station License, FCC Form 703.

Form Number: FCC Form 703.

Type of Review: Revision of a currently approved collection.

Respondents: Business or other for-profits; not-for-profit institutions.

Number of Respondents: 40.

Estimated Time per Response: 36 minutes (0.6 hours).

Frequency of Response: On occasion reporting requirement; Third party disclosure requirement.

Total Annual Burden: 24 hours.

Total Annual Cost: $2,200.

Privacy Impact Assessment: No impact(s).

Needs and Uses: The Communications Act of 1934, as amended, and 47 CFR 5.59 of FCC Rules require applicants for Experimental Radio Services to submit FCC Form 703 when they propose to change the control of a station, via a transfer of stock ownership. The Commission uses information to determine the eligibility for licenses, without which, violations of ownership regulations may occur. There are no changes to the FCC Form 703, but the regulatory fee has increased to $55.00.

OMB Control Number: 3060-0068.

Title: Application for Consent to Assign an Experimental Authorization, FCC Form 702.

Form Number: FCC 702.

Type of Review: Revision of a currently approved collection.

Respondents: Business or other for-profit; not-for-profit institutions.

Number of Respondents: 10.

Estimated Time per Response: 0.6 hour. (36 mins.).

Frequency of Response: On occasion reporting requirements; Third party disclosure.

Total Annual Burden: 6 hours.

Total Annual Cost: $550.

Privacy Impact Assessment: No impact(s).

Needs and Uses: The FCC Rules, 47 CFR 5.59, require that applicants for Experimental Radio Service file FCC Form 702 when the legal right to control the use and operation of a station is to be transferred, as a result of a voluntary act (contract or other agreement); of an involuntary act (death or legal disability) of the grantee of a station authorization; by involuntary assignment of the physical property constituting the station under a court decree in bankruptcy proceedings or other court order; or by operation of law in any other manner. Applicants now file FCC Form 702 electronically. The regulatory fee has increased to $55.00

Federal Communications Commission.
Marlene H. Dortch,
Secretary.

[FR Doc. 05-13749 Filed 7-12-05; 8:45 am]

BILLING CODE 6712-01-P